ENVIRONMENTAL PROTECTION AGENCY

40 CFR Part 52

[MA-01-082-7212b; A-1-FRL-6905-9]

Approval and Promulgation of Air Quality Implementation Plans; Massachusetts; Amendment to the Massachusetts Port Authority/Logan Airport Parking Freeze and City of Boston/East Boston Parking Freeze

AGENCY: Environmental Protection Agency (EPA).

ACTION: Proposed rule.

SUMMARY: The EPA is proposing to approve a State Implementation Plan (SIP) revision submitted by the Commonwealth of Massachusetts. This SIP revision will establish a state process to allow the transfer of parking spaces from the East Boston Parking Freeze to the Logan Parking Freeze provided the total Logan Parking Freeze inventory number remains at or below 21,790 parking spaces. The intended effect of this action is to allow the shifting of airport-related parking out of the East Boston community and on to airport property where it belongs. There is no net change in parking spaces allowed in the established parking freezes by this action. This action is being taken under the Clean Air Act. Public comments on this document are requested and will be considered before taking final action on this SIP revision.

DATES: Written comments must be received on or before December 27, 2000.

ADDRESSES: Comments may be mailed to David Conroy, Unit Manager, Air Quality Planning, Office of Ecosystem Protection (mail code CAQ), U.S. Environmental Protection Agency, EPA-New England, One Congress Street, Suite 1100, Boston, MA 02114-2023. Copies of the Commonwealth's submittal are available for public inspection during normal business hours, by appointment at the Office of Ecosystem Protection, U.S. Environmental Protection Agency, EPA-New England, One Congress Street, 11th floor, Boston, MA and Consumer and Transportation Division, Bureau of Waste Prevention, Massachusetts Department of Environmental Protection, One Winter Street, 9th Floor, Boston, MA 02108.

FOR FURTHER INFORMATION CONTACT: Donald O. Cooke, (617) 918-1668 or e-mail COOKE.DONALD@EPA.GOV.

SUPPLEMENTARY INFORMATION: On November 3, 2000, the Massachusetts Department of Environmental Protection (MA DEP) submitted a proposed revision to its State Implementation Plan (SIP). The proposed revisions are amendments to the Massachusetts Port Authority (Massport)/Logan Airport Parking Freeze and City of Boston/East Boston Parking Freeze. This proposed revision allows the Commonwealth to administratively approve the transfer of parking spaces from the East Boston Parking Freeze to the Logan Parking Freeze provided the total parking space inventory number for the Logan Parking Freeze remains at or below 21,790 parking spaces. Once adopted, future modifications in the parking freeze inventories for the East Boston and Logan Airport Parking Freezes will be regulated by the Commonwealth's revisions to Massachusetts State Regulations 310 CMR 7.30 and 310 CMR 7.31.

The amendments will not affect the total number of airport-related parking spaces allowed under the Logan Airport and East Boston Parking Freezes and will further the goal of transferring airport-related parking spaces out of the East Boston neighborhood to Logan Airport.

MA DEP has requested that EPA parallel process this proposed SIP revision. Under this procedure, EPA-New England Regional Office works closely with the MA DEP, the state air agency, while the Commonwealth is developing new or revised regulations. The state submits a copy of the proposed regulation or other revisions to EPA before conducting its public hearing. EPA reviews this proposed state action, and prepares a notice of proposed rulemaking. EPA's notice of proposed rulemaking is published in the Federal Register during the same time frame that the Commonwealth is holding its public hearing. The Commonwealth and EPA then provide for concurrent public comment periods on both the state action and Federal action. After the Commonwealth submits the formal SIP revision request (including a response to all public comments raised during the state's public participation process, and the approved amended Massachusetts State Regulations 310 CMR 7.30 and 310 CMR 7.31,) EPA will prepare a final rulemaking notice. If the Commonwealth's formal SIP submittal contain changes which occur after EPA's notice of proposed rulemaking, such changes must be described in EPA's final rulemaking action. If the Commonwealth's changes are significant, then EPA must decide whether it is appropriate to re-propose the state's action.

I. Background

Existing Logan Parking Freeze and East Boston Parking Freeze

Since 1975, Logan Airport has been subject to a freeze on the number of commercial parking spaces available for use by Logan air travelers and visitors. In the mid-seventies, EPA developed the Logan Parking Freeze as one strategy in the Transportation Control Plan of its federally promulgated plan for the Boston Region in 1975 as part of a comprehensive strategy to reduce air pollution caused by automobile emissions. The goal was to achieve the ozone and carbon monoxide National Ambient Air Quality Standards (NAAQS) established by the Clean Air Act.

The Logan Airport Parking Freeze was reaffirmed and committed to as a Reasonable Available Control Measure (RACM) in the 1979 and 1982 State Implementation Plan revisions required by the Clean Air Act Amendments of 1977. Through the 1979 and 1982 SIP, the Commonwealth incorporated the Federal Implementations Plan's parking freeze provisions by reference committing the Commonwealth to implement and enforce the parking freeze as a state regulation as well as a Federal law.

In 1989, the Logan Airport Parking Freeze was amended and the East Boston Parking Freeze was adopted by the Commonwealth of Massachusetts. Unlike the 1975 Logan Freeze, which targeted only commercial parking, the 1989 state action limited and regulated the management of all major airport-related parking in the Logan Airport and East Boston Parking Freeze areas. The parking supply at Logan Airport was capped at 19,315 parking spaces. In addition, Logan-related park and fly and rental car parking spaces in East Boston were capped at existing levels. On April 26, 1991, MA DEP certified the parking freeze numbers for the East Boston Parking Freeze area at 4,012 rental motor vehicle parking spaces and 2,475 park and fly parking spaces. EPA approved the Logan Airport Parking Freeze and East Boston Parking Freeze amendments into the Massachusetts SIP on March 16, 1993, Federal Register (58 FR 14153-14157).

The Logan Airport and East Boston Parking Freezes were designed to meet the following objectives: mitigating the traffic related air quality impacts of airport access on both the regional level and on the neighborhood level; reducing the number of vehicle trips (i.e., employee and air traveler drop-off/pick up trips) by providing a mix of on-airport parking and off-airport satellite parking centers outside of the parking freeze areas; managing the parking supply for Logan to stabilize overall ground access; and developing a unified access management plan for Logan Airport. One of the goals of the current Logan Airport Parking Freeze and East Boston Parking Freeze is to encourage the relocation of park and fly parking spaces from the East Boston neighborhoods to Logan Airport to reduce localized traffic and air quality impacts.

Summary of Proposed Action

There are four provisions being proposed in the amended Massachusetts State Regulations 310 CMR 7.30 Massport/Logan Airport Parking Freeze and 310 CMR 7.31 City of Boston, East Boston Parking Freeze:

(1) Should Massport, or its nominee, acquire in fee (or lease for a term in excess of five years) property within the East Boston Parking Freeze on which park and fly parking spaces included in the East Boston Parking Freeze area inventory, are located, such spaces, upon notification by Massport to the MA DEP and the Boston Air Pollution Control Commission, and approval by MA DEP, may be automatically and permanently converted to commercial parking spaces within the Logan Airport Parking Freeze area.

(2) Commercial and employee parking spaces within the Logan Airport Parking Freeze area shall be limited to 19,315 parking spaces of which there shall be no more than 5,225 employee parking spaces and no fewer than 14,090 commercial parking spaces. The total 19,315 parking spaces may be administratively increased to 21,790 parking spaces by MA DEP, on a one-for-one basis, as allowed by the permanent relocation of East Boston Parking Freeze park and fly parking spaces to the Logan Parking Freeze area commercial parking spaces.

(3) In the event that any property within the boundaries of the Logan Airport Parking Freeze area is conveyed in fee by Massport, such property shall be removed from the Logan Parking Freeze area and become part of the East Boston Parking Freeze area at the time of such conveyance.

(4) Upon the relocation of any rental motor vehicle parking spaces from the East Boston Freeze area to the Logan Airport Parking Freeze area, the number of rental motor vehicle parking spaces certified by the MA DEP for the East Boston Freeze area shall be permanently reduced by the number of parking spaces relocated to the Logan Airport Parking Freeze area.

II. Proposed Action

EPA is proposing to approve the Massachusetts SIP revision which will allow MA DEP to administratively approve future modifications to the Logan Parking Freeze and the East Boston Parking Freeze in accordance with the proposed amendments to Massachusetts State Regulations 310 CMR 7.30 Massport/Logan Airport Parking Freeze and 310 CMR 7.31 City of Boston/East Boston Parking Freeze, which were submitted on November 3, 2000. EPA is soliciting public comments on the issues discussed in this notice or on other relevant matters. These comments will be considered before taking final action. Interested parties may participate in the Federal rulemaking procedure by submitting written comments to the EPA-New England office listed in the ADDRESSES section of this document.

Interested parties are also encouraged to participate in the concurrent state process by presenting oral or written testimony at the Commonwealth's December 4, 2000 public hearing, and submitting written comment on or before 5:00 p.m. on Monday, December 4, 2000, to Christine Kirby, Massachusetts Department of Environmental Protection, Bureau of Waste Prevention, One Winter Street, 9th Floor, Boston, MA 02108 during the state's comment period. Please contact Ms. Christine Kirby, Massachusetts Department of Environmental Protection, Bureau of Waste Prevention, Division of Consumer and Transportation Programs at (617) 292-5631 for additional information on the Commonwealth's public participation process.

III. Administrative Requirements

Under Executive Order 12866 (58 FR 51735, October 4, 1993), this action is not a “significant regulatory action” and therefore is not subject to review by the Office of Management and Budget. This action merely approves state law as meeting Federal requirements and imposes no additional requirements beyond those imposed by state law. Accordingly, the Administrator certifies that this rule will not have a significant economic impact on a substantial number of small entities under the Regulatory Flexibility Act (5 U.S.C. 601 et seq.). Because this rule approves pre-existing requirements under state law and does not impose any additional enforceable duty beyond that required by state law, it does not contain any unfunded mandate or significantly or uniquely affect small governments, as described in the Unfunded Mandates Reform Act of 1995 (Public Law 104-4). For the same reason, this rule also does not significantly or uniquely affect the communities of tribal governments, as specified by Executive Order 13084 (63 FR 27655, May 10, 1998). This rule will not have substantial direct effects on the States, on the relationship between the national government and the States, or on the distribution of power and responsibilities among the various levels of government, as specified in Executive Order 13132 (64 FR 43255, August 10, 1999), because it merely approves a state rule implementing a Federal standard, and does not alter the relationship or the distribution of power and responsibilities established in the Clean Air Act. This rule also is not subject to Executive Order 13045 (62 FR 19885, April 23, 1997), because it is not economically significant.

In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. As required by section 3 of Executive Order 12988 (61 FR 4729, February 7, 1996), in issuing this rule, EPA has taken the necessary steps to eliminate drafting errors and ambiguity, minimize potential litigation, and provide a clear legal standard for affected conduct. EPA has complied with Executive Order 12630 (53 FR 8859, March 15, 1988) by examining the takings implications of the rule in accordance with the “Attorney General's Supplemental Guidelines for the Evaluation of Risk and Avoidance of Unanticipated Takings' issued under the executive order. This rule does not impose an information collection burden under the provisions of the Paperwork Reduction Act of 1995 (44 U.S.C. 3501 et seq.).

List of Subjects in 40 CFR Part 52

Environmental protection, Air pollution control, Carbon monoxide, Hydrocarbons, Intergovernmental relations, Nitrogen dioxide, Ozone, Particulate matter, Reporting and recordkeeping requirements, Sulfur oxides.

Authority: 42 U.S.C. 7401 et seq.

Dated: November 14, 2000.
Mindy S. Lubber,
Regional Administrator, EPA-New England.

[FR Doc. 00-30113 Filed 11-24-00; 8:45 am]

BILLING CODE 6560-50-P